DEPARTMENT OF THE INTERIOR

Bureau of Land Management

[BLM_CO_FRN_MO4500171689]

Statewide Call for Nominations for Colorado Resource Advisory Councils

AGENCY: Bureau of Land Management, Interior.

ACTION: Notice of call for nominations.

SUMMARY: The purpose of this notice is to request public nominations for the Bureau of Land Management (BLM) Colorado's Northwest, Southwest, and Rocky Mountain Resource Advisory Councils (RAC) to fill existing vacancies, as well as member terms that are scheduled to expire. The RACs provide advice and recommendations to the BLM on land use planning and management of the National System of Public Lands within their geographic areas.

DATES: All nominations must be received no later than September 8, 2023.

ADDRESSES: Nominations and completed applications should be sent to the BLM Colorado District Offices listed in the SUPPLEMENTARY INFORMATION section of this notice.

FOR FURTHER INFORMATION CONTACT: Kirby-Lynn Shedlowski, BLM Colorado Lead Public Affairs Specialist, Denver Federal Center, Building 40 Lakewood, CO 80215; telephone: (303) 239-3671; email: kshedlowski@blm.gov. Individuals in the United States who are deaf, deafblind, hard of hearing, or have a speech disability may dial 711 (TTY, TDD, or TeleBraille) to access telecommunications relay services for contacting Kirby-Lynn Shedlowski. Individuals outside the United States should use the relay services offered within their country to make international calls to the point-of-contact in the United States.

SUPPLEMENTARY INFORMATION: The Federal Land Policy and Management Act (FLPMA) directs the Secretary of the Interior to involve the public in planning and issues related to management of lands administered by the BLM. Section 309 of FLPMA (43 U.S.C. 1739) directs the Secretary to establish 10- to 15-member citizen-based advisory councils that are consistent with the Federal Advisory Committee Act (FACA). As required by FACA, RAC membership must be balanced and representative of the various interests concerned with the management of the public lands. The rules governing RACs are found at 43 CFR subpart 1784 and include the following three membership categories:

Category One—Holders of Federal grazing permits or leases within the area for which the RAC is organized; represent interests associated with transportation or rights-of-way; represent developed outdoor recreation, off-highway vehicle users, or commercial recreation activities; represent the commercial timber industry; or represent energy and mineral development.

Category Two—Representatives of nationally or regionally recognized environmental organizations; dispersed recreational activities; archaeological and historical interests; or nationally or regionally recognized wild horse and burro interest groups.

Category Three—Hold State, county, or local elected office; are employed by a State agency responsible for the management of natural resources, land, or water; represent Indian Tribes within or adjacent to the area for which the RAC is organized; are employed as academicians in natural resource management or the natural sciences; or represent the affected public-at-large.

Individuals may nominate themselves or others. Nominees must be residents of the State of Colorado. The BLM will evaluate nominees based on their education, training, experience, and knowledge of the geographic area of the RAC. Nominees should demonstrate a commitment to collaborative resource decision-making.

The following must accompany all nominations:

—A completed RAC application, which can either be obtained through your local BLM office or online at: https://www.blm.gov/sites/default/files/docs/2022-05/BLM-Form-1120-19_RAC-Application.pdf

—Letters of reference from represented interests or organizations; and

—Any other information that addresses the nominee's qualifications.

Simultaneous with this notice, BLM Colorado will issue a press release providing additional information for submitting nominations.

Nominations and completed applications should be sent to the office listed below:

Rocky Mountain RAC

Levi Spellman, BLM Rocky Mountain District Office, 3028 East Main Street, Cañon City, CO 81212; phone: (719) 269-8553; email: lspellman@blm.gov.

Northwest RAC

Eric Coulter, BLM Upper Colorado River District Office, 2815 H Road Grand Junction, CO 81056; Phone: (970) 628-5622; email: ecoulter@blm.gov.

Southwest RAC

D. Maggie Magee, BLM Southwest Colorado District Office, 2465 South Townsend Avenue, Montrose, CO 81401; Phone: (970) 240-5323; email: dmagee@blm.gov.

Authority: 43 CFR 1784.4-1.

Douglas J. Vilsack,
BLM Colorado State Director.

[FR Doc. 2023-17055 Filed 8-8-23; 8:45 am]

BILLING CODE 4331-16-P